DEPARTMENT OF DEFENSE

Office of the Secretary

Defense Advisory Committee on Investigation, Prosecution, and Defense of Sexual Assault in the Armed Forces (DAC-IPAD); Notice of Federal Advisory Committee Meeting

AGENCY: Department of Defense.

ACTION: Notice of meeting.

SUMMARY: The Department of Defense is publishing this notice to announce the following Federal Advisory Committee meeting of the Defense Advisory Committee on Investigation, Prosecution, and Defense of Sexual Assault in the Armed Forces (“the DAC-IPAD” or “the Committee”). The meeting is open to the public.

DATES: A meeting of the DAC-IPAD will be held on Thursday, January 19, 2017. The public session will begin at 10:00 a.m. and end at 4:45 p.m.

ADDRESSES: Holiday Inn Arlington at Ballston, Grand Ballroom, 4610 N. Fairfax Drive, Arlington, Virginia 22203.

FOR FURTHER INFORMATION CONTACT: Ms. Julie Carson, DAC-IPAD, One Liberty Center, Suite 150, 875 N. Randolph Street, Arlington, Virginia 22203. Phone: (703) 693-3849.

SUPPLEMENTARY INFORMATION: This public meeting is being held under the provisions of the Federal Advisory Committee Act of 1972 (5 U.S.C., Appendix, as amended), the Government in the Sunshine Act of 1976 (5 U.S.C. 552b, as amended), and 41 CFR 102-3.50(a).

Purpose of the Meeting: In section 546 of the National Defense Authorization Act for Fiscal Year 2015 (Pub. L. 113-291), as modified by section 537 of the National Defense Authorization Act for Fiscal Year 2016 (Pub. L. 114-92), Congress tasked the DAC-IPAD to advise the Secretary of Defense on the investigation, prosecution, and defense of allegations of rape, forcible sodomy, sexual assault, and other sexual misconduct involving members of the Armed Forces. This will be the first public meeting held by the DAC-IPAD. At this meeting, the Committee will receive presentations on the Federal Advisory Committee Act, the court-martial process, the history of sexual assault issues in the Armed Forces, and recent legislation on sexual assault. The Committee will also be briefed on the work of the two predecessor federal advisory committees tasked with reviewing military sexual assault issues—the Response Systems to Adult Sexual Assault Crimes Panel and the Judicial Proceedings Panel. The Committee will then conduct a planning session.

Agenda

8:30 a.m.-10:00 a.m. Administrative Work (41 CFR 102-3.160, not subject to notice & open meeting requirements)

10:00 a.m.-10:30 a.m. Welcome and Introduction

—Alternate Designated Federal Official Opens Meeting

—Remarks of the Chair

—Remarks by DoD Official

—Introduction of Members

10:30 a.m.—11:30 a.m. Federal Advisory Committee Act Brief

—Ms. Elaine Crowley, Office of the General Counsel, Department of Defense

11:30 a.m.—12:30 p.m. Overview of the Court-Martial Process

—Mr. Dwight Sullivan, Office of the General Counsel, Department of Defense

12:30 p.m.—1:15 p.m. Lunch

1:15 p.m.—2:15 p.m. Legislative Highlights and the History of Sexual Assault Issues in the Armed Forces Since 2012

—Captain Warren Record, JAGC, U.S. Navy, Chair, Joint Service Committee on Military Justice

2:15 p.m.—3:15 p.m. History of the Response Systems to Adult Sexual Assault Crimes Panel and the Judicial Proceedings Panel

—Ms. Maria Fried, Office of the General Counsel, Department of Defense

3:15 p.m.—4:30 p.m. Committee Planning Session

4:30 p.m.—4:45 p.m. Public Comment

4:45 p.m. Meeting Adjourned

Availability of Materials for the Meeting: A copy of the January 19, 2017 public meeting agenda and any updates or changes to the agenda, including the location and individual speakers not identified at the time of this notice, as well as other materials provided to Committee members for use at the public meeting, may be obtained at the meeting.

Public's Accessibility to the Meeting: Pursuant to 5 U.S.C. 552b and 41 CFR 102-3.140 through 102-3.165, and the availability of space, this meeting is open to the public. Seating is limited and is on a first-come basis. In the event the Office of Personnel Management closes the government due to inclement weather or any other reason, please consult the Web site for any changes to public meeting dates or time.

Special Accommodations: Individuals requiring special accommodations to access the public meeting should contact the DAC-IPAD at whs.pentagon.em.mbx.dacipad@mail.mil at least five (5) business days prior to the meeting so that appropriate arrangements can be made.

Procedures for Providing Public Comments: Pursuant to 41 CFR 102-3.140 and section 10(a)(3) of the Federal Advisory Committee Act of 1972, the public or interested organizations may submit written comments to the DAC-IPAD about its mission and topics pertaining to this public session. Written comments must be received by the Committee at least five (5) business days prior to the meeting date so that they may be made available to the Committee members for their consideration prior to the meeting. Written comments should be submitted via email to the DAC-IPAD at whs.pentagon.em.mbx.dacipad@mail.mil in the following formats: Adobe Acrobat or Microsoft Word. Please note that since the Committee operates under the provisions of the Federal Advisory Committee Act, as amended, all written comments will be treated as public documents and will be made available for public inspection. If members of the public are interested in making an oral statement pertaining to the agenda for the public meeting, a written statement must be submitted as above along with a request to provide an oral statement. After reviewing the written comments and the oral statement, the Chairperson and the Designated Federal Official will determine who will be permitted to make an oral presentation of their issue during the public comment portion of this meeting. This determination is at the sole discretion of the Chairperson and Designated Federal Official, will depend on the time available and relevance to the Committee's activities for that meeting, and will be on a first-come basis. When approved in advance, oral presentations by members of the public will be permitted from 4:30 p.m. to 4:45 p.m. on January 19, 2017 in front of the Committee members.

Committee's Designated Federal Official: The DAC-IPAD's Designated Federal Official is Mr. Dwight Sullivan, Associate Deputy General Counsel for Military Justice, U.S. Department of Defense, Office of the General Counsel, 1600 Defense Pentagon, Room 3B747, Washington, DC 20301-1600.

Dated: December 20, 2016.
Aaron Siegel,
Alternate OSD Federal Register Liaison Officer, Department of Defense.

[FR Doc. 2016-30992 Filed 12-22-16; 8:45 am]

BILLING CODE 5001-06-P